ENVIRONMENTAL PROTECTION AGENCY

40 CFR Part 52

[EPA-R05-OAR-2019-0700; FRL-10013-26-Region 5]

Air Plan Approval; Wisconsin; VOC RACT Requirements for Lithographic Printing Facilities

AGENCY: Environmental Protection Agency (EPA).

ACTION: Proposed rule.

SUMMARY: The Environmental Protection Agency (EPA) is proposing to approve a State Implementation Plan (SIP) revision submitted by the Wisconsin Department of Natural Resources (WDNR or Wisconsin) on December 13, 2019. Wisconsin requests that EPA approve rules related to control of volatile organic compound (VOC) emissions from offset lithographic printing operations into the Wisconsin's SIP. These revisions include amendments to the Wisconsin Administrative Code (WAC), Chapter NR 422.

DATES: Comments must be received on or before October 26, 2020.

ADDRESSES: Submit your comments, identified by Docket ID No. EPA-R05-OAR-2019-0700 at http://www.regulations.gov, or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Kathleen Mullen, Environmental Engineer, Attainment Planning and Maintenance Section, Air Programs Branch (AR-18J), Environmental Protection Agency, Region 5, 77 West Jackson Boulevard, Chicago, Illinois 60604, (312) 353-3490, Mullen.Kathleen@epa.gov. The EPA Region 5 office is open from 8:30 a.m. to 4:30 p.m., Monday through Friday, excluding Federal holidays and facility closures due to COVID 19.

SUPPLEMENTARY INFORMATION: Throughout this document whenever “we,” “us,” or “our” is used, we mean EPA.

I. What is EPA proposing?

EPA is proposing to approve revisions to the Wisconsin Administrative Code Chapter NR 422, into the Wisconsin SIP. These revisions amend the control of VOC emissions from offset lithographic printing operations.

II. What is the background for these actions?

There are two state rules (NR 422.142 and NR 422.143, Wis. Adm. Code) regulating VOC emissions from lithographic printing operations in Wisconsin.

Section NR 422.142, Wis. Adm. Code (Lithographic printing—Part 1) contains requirements that were established as RACT requirements for the 1979 1-hour ozone National Ambient Air Quality Standard (NAAQS) for nine counties in southeast Wisconsin (Kenosha, Kewaunee, Manitowoc, Milwaukee, Ozaukee, Racine, Sheboygan, Washington, and Waukesha Counties), and became effective on July 1, 1995. Section NR 422.143, Wis. Adm. Code (Lithographic printing—Part 2) was established as RACT requirements for the 1997 8-hour ozone NAAQS for seven counties located in southeast Wisconsin (Kenosha, Milwaukee, Ozaukee, Racine, Sheboygan, Washington, and Waukesha), and became effective on August 1, 2009. The requirements in Part 2 are based on the limits established in the latest Control Techniques Guidelines (CTG) for Offset Lithographic Printing and Letterpress Printing, published by EPA in 2006. NR 422.142 and NR 422.143 were previously approved into Wisconsin's SIP on August 7, 2012 (77 FR 46961).

The two-part organizational structure of these rules creates potential confusion in the application of the rules. Revisions to these rules (NR 422.142 and NR 422.143, Wis. Adm. Code) will clarify and streamline the VOC RACT requirements for lithographic printing facilities. The revised Wisconsin Administrative Code Chapter NR 422 became effective July 1, 2019.

III. What is EPA's analysis of Wisconsin's SIP revision?

EPA has reviewed Wisconsin's revised VOC rules for lithographic printing facilities, which include: Adding new definitions in NR 422.02, Wis. Adm. Code., changing the rule applicability of NR 422.142 and 422.143, Wis. Adm. Code, replacing the term “blanket or roller wash” with “cleaning solution” in NR 422.142 and 422.143, Wis. Adm. Code, revising the VOC emission limits for blanket or roller wash, clarifying the associated monitoring and recordkeeping requirements, eliminating the periodic stack testing requirements for small sources, and including the calculation methods for composite partial vapor pressure calculations in NR 422.143.

The proposed revisions are consistent with the latest CTG published by EPA in 2006, clarify the existing state rule requirements for lithographic printing operations in the southeastern part of Wisconsin, and streamline the implementation of these state rules. A brief discussion of these revisions follows.

NR 422—Control of Organic Compound Emissions From Surface Coating, Printing, and Asphalt Surfacing Operations

NR 422.02(7c)—Definition

A new definition to “Automatic blanket and roller wash” has been added to Wisconsin's lithographic printing regulations. This definition is approvable because it is a necessary update to the definition section and accurately describes that “Automatic blanket and roller wash” refers to all the printing press-related cleaning activities consistent with the CTG.

NR 422.02(14m)—Definition

A new definition to “Cleaning solution” has been added to Wisconsin's lithographic printing regulations. This definition is approvable because it is a necessary update to the definition section and accurately describes cleaning solutions consistent with the CTG.

NR 422.02(45e)—Definition

A new definition to “Janitorial supplies” has been added to Wisconsin's lithographic printing regulation. This definition is approvable because it is a necessary update to the definition section and accurately describes janitorial supplies consistent with the CTG.

NR 422.142—Lithographic Printing—Part 1

This rule has been amended to narrow its applicability to cover only existing facilities located in Kewaunee and Manitowoc counties. Specifically, seven counties (Kenosha, Milwaukee, Ozaukee, Racine, Sheboygan, Washington, and Waukesha) from the list of the affected facilities under NR 422.142 were removed, because they are covered under the requirements of NR 422.143, which is more stringent and consistent with the latest CTG published in 2006. This revision is approvable because it is consistent with the subject CTG.

NR 422.142 and NR 422.143

The printing industry refers to “blanket or roller wash” as the solvents used for blanket wash and roller wash only. “Cleaning solution” refers to all the printing press-related cleaning activities. In order to clarify how the term is used by the printing industry, these rules have been revised to replace the term “blanket or roller wash” with “cleaning solution.” These revisions are approvable since they are consistent with the terms used in EPA's 2006 CTG.

NR 422.142(2)(c) and 422.143(3)(c)

The VOC content limits for the cleaning solutions have been revised to be less than 70% by weight. This change is approvable since it is consistent with the VOC content limits in the 2006 CTG.

NR 422.142(2)(c)

The formula used to calculate the VOC vapor pressure limits for the cleaning solutions was revised from “vapor pressure for each VOC component” to “VOC composite partial vapor pressure.” This revision is approvable since it is consistent with VOC vapor pressure limits used in NR 422.143 and the latest 2006 CTG.

NR 422.142(3), NR 422.142(4), NR 422.143(5), and NR 422.143(6)

The monitoring and recordkeeping requirements were revised to clarify the temperature monitoring and maintenance requirements for control devices. These revisions are approvable since they clarify the rule requirements regarding monitoring and record keeping for lithographic printing operations.

NR 422.142(5)(b)2 and 422.143(7)(b)2

The stack test requirements for small sources were revised to remove periodic stack testing that requires retesting the control device every 48 months. These revisions apply only to sources with allowable VOC emissions that are less than 100 tons per year from lithographic printing facilities. The tested control efficiencies for these existing lithographic printing sources exceed 98%, and control efficiency does not go down as the control device ages. Therefore, it was determined that initial stack testing, periodic monitoring and recording of control device operating temperature, and maintenance of the control device are sufficient to demonstrate compliance with the control efficiency requirements for the control devices installed with the lithographic printing presses, and the periodic stack testing requirement for small sources could be removed. These revisions are approvable since they clarify the rule requirements regarding stack test testing for small lithographic printing sources and do not compromise the effectiveness of the rule.

NR 422.142(5)(b)1 and 422.143(7)(b)1

For the lithographic printing sources with allowable VOC emissions that are greater than 100 tons per year, the periodic testing requirement (every 24 months) will remain in the rule. The testing exception scenarios specified in NR 439.075(4), Wis. Adm. Code, still apply to these larger sources that could reduce the frequency of periodic testing for these sources. The language in NR 422.142(5)(b)1. and 422.143(7)(b)1., Wis. Adm. Code, was revised to clarify that the testing exceptions in NR 439.075(4), Wis. Adm. Code, apply to larger sources. These revisions are approvable since they clarify the rule requirements regarding stack testing for large lithographic printing sources.

NR 422.143(7)(d) and NR 422.142(5)(d)

Section NR 422.143(7)(d) was added to include the equation used to calculate composite partial vapor pressure for cleaning solutions. This revision clarifies how affected sources are to demonstrate compliance with the applicable limitations. Section NR 422.142(5)(d) was revised to incorporate this calculation method. These revisions are approvable since they clarify the rule requirements regarding composite partial vapor pressure calculations for lithographic printing operations.

NR 422.143—Lithographic Printing—Part 2

The applicable areas in this section were revised to cover new and modified lithographic printing facilities in Kewaunee and Manitowoc Counties. New control devices in these counties must meet the higher control efficiency requirements for add-on control devices specified in this section. Revisions in this section are approvable because they are consistent with the most recent CTG and clarify the existing state rule requirements for lithographic printing operations.

IV. What action is EPA taking?

EPA is proposing to approve the Wisconsin SIP revisions to its rules relating to the control of VOC emissions from offset lithographic printing operations (WI Admin Code NR 422.02, 422.142, 422.143) submitted on December 13, 2019. EPA is soliciting public comment on the issues discussed in this document. These comments will be considered before taking final action.

V. Incorporation by Reference

In this proposed rule, EPA is proposing to include in a final EPA rule regulatory text that includes incorporation by reference. In accordance with requirements of 1 CFR 51.5, EPA is proposing to incorporate by reference Wisconsin Administrative Code provisions NR 422.02, NR 422.142, and NR 422.143, published in the Wisconsin Register June 2019 No. 762b and became effective July 1, 2019. EPA has made, and will continue to make, these documents generally available through www.regulations.gov and at the EPA Region 5 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Volatile organic compounds.

Dated: September 10, 2020.
Cheryl Newton,
Deputy Regional Administrator, Region 5.

[FR Doc. 2020-20517 Filed 9-24-20; 8:45 am]

BILLING CODE 6560-50-P